DEPARTMENT OF THE TREASURY

Internal Revenue Service

26 CFR Part 1

[TD 9273]

RIN 1545-AX65

Stock Transfer Rules: Carryover of Earnings and Taxes; Correction

AGENCY: Internal Revenue Service (IRS), Treasury.

ACTION: Correction to final regulations.

SUMMARY: This document contains a correction to final regulations (TD 9273) that were published in the Federal Register on Tuesday, August 8, 2006(71 FR 44887) addressing the carryover of certain tax attributes, such as earnings and profits and foreign income tax accounts, when two corporations combine in a corporate reorganization or liquidation that is described in both section 367(b) and section 381 of the Internal Revenue Code (Code).

DATES: This correction is effective August 8, 2006.

FOR FURTHER INFORMATION CONTACT: Jeffrey L. Parry, (202) 622-3850 (not a toll-free number).

SUPPLEMENTARY INFORMATION:

Background

The correction notice that is the subject of this document is under sections 367(b) and 381 of the Internal Revenue Code.

Need for Correction

As published, final regulations (TD 9273) contain an error that may prove to be misleading and is in need of clarification.

Correction of Publication

Accordingly, the publication of the final regulations (TD 9273), which was the subject of FR Doc. 06-6740, is corrected as follows:

On page 44889, column 3, in the preamble, under the paragraph heading “B. Paradigm Based on Pooling Rather Than Look-Through”, first paragraph of the column, line 11, the language “through-corporation included a” is corrected to read “through corporation included a”.

Guy R. Traynor,
Chief, Publications and Regulations Branch, Legal Processing Division, Associate Chief Counsel (Procedure and Administration).

[FR Doc. E6-16126 Filed 9-29-06; 8:45 am]

BILLING CODE 4830-01-P